DEPARTMENT OF HEALTH AND HUMAN SERVICES

Administration for Children and Families

Administration for Native Americans; Notice of Meeting

AGENCY: Administration for Children and Families, Department of Health and Human Services.

ACTION: Notice of Tribal Consultation.

SUMMARY: The Department of Health and Human Services (HHS), Administration for Children and Families (ACF) will host a Tribal Consultation to consult on ACF programs and tribal priorities.

DATES: June 16, 2014.

ADDRESSES: Doubletree Crystal City, 300 Army Navy Drive, Arlington, VA 22202-2891.

FOR FURTHER INFORMATION CONTACT: Lillian Sparks Robinson, Commissioner, Administration for Native Americans at 202-401-5590, by email at Lillian.sparks@acf.hhs.gov, or by mail at 370 L'Enfant Promenade SW., 2 West, Washington, DC 20447.

SUPPLEMENTARY INFORMATION: On November 5, 2009, President Obama signed the “Memorandum for the Heads of Executive Departments and Agencies on Tribal Consultation.” The President stated that his Administration is committed to regular and meaningful consultation and collaboration with tribal officials in policy decisions that have tribal implications, including, as an initial step, complete and consistent implementation of Executive Order 13175.

The United States has a unique legal and political relationship with Indian tribal governments, established through and confirmed by the Constitution of the United States, treaties, statutes, executive orders, and judicial decisions. In recognition of that special relationship, pursuant to Executive Order 13175 of November 6, 2000, executive departments and agencies are charged with engaging in regular and meaningful consultation and collaboration with tribal officials in the development of federal policies that have tribal implications, and are responsible for strengthening the government-to-government relationship between the United States and Indian tribes.

HHS has taken its responsibility to comply with Executive Order 13175 very seriously over the past decade, including the initial implementation of a Department-wide policy on Tribal consultation and coordination in 1997, and through multiple evaluations and revisions of that policy, most recently in 2010. ACF has developed its own agency-specific consultation policy that complements the Department-wide efforts.

ACF's Administration for Native Americans will hold a consultation on June 16, 2014. ACF Principals will be available to speak with Tribal Leaders to discuss issues important to the tribes and will focus on ACF tribal program priorities. To help all participants to prepare for this consultation, planning teleconference calls will be held on:

Wednesday, May 14, 2014, 3:00 p.m.-4:00 p.m. Eastern Time

Wednesday, May 21, 2014, 3:00 p.m.-4:00 p.m. Eastern Time

Wednesday, May 28, 2014, 3:00 p.m.-4:00 p.m. Eastern Time

The call-in number is: 866-769-9393. The passcode is: 4449449#.

Testimonies are to be submitted no later than June 2, 2014, to: Lillian Sparks Robinson, Commissioner, Administration for Native Americans, 370 L'Enfant Promenade, SW., Washington, DC 20447, anacommissioner@acf.hhs.gov.

This session will be followed by the ACF Native American Grantee Conference, to be held June 17-19, 2014, with several workshops that we hope will prove to be informative to you and your grant program directors. The theme of this year's conference is “Honoring Our Commitments to Native American Families and Communities: Today and Tomorrow.” The workshop tracks are: Accessing Educational Opportunities; Economic Opportunity NOW!; Promoting Health; Supporting Governance; Promoting Hopeful, Safe, and Healthy Communities; Understanding Grants Management and Administration; ACF—Learning from You (Listening Session). Additionally, on June 20, 2014, several program offices will hold individual meetings for the grantees they work with directly. The following offices will hold meetings: Administration for Native Americans, Children's Bureau, Family and Youth Services Bureau, Office of Child Care, and the Office of Child Support Enforcement.

To register for the consultation or conference, please visit: https://www.regonline.com/acfgranteemeeting.

Dated: April 7, 2014.
Mark H. Greenberg,
Acting Assistant Secretary for Children and Families.

[FR Doc. 2014-08826 Filed 4-16-14; 8:45 am]

BILLING CODE 4184-34-P